DEPARTMENT OF LABOR

Occupational Safety and Health Administration

Advisory Committee on Construction Safety and Health

AGENCY: Occupational Safety and Health Administration (OSHA), Labor.

ACTION: Notice of an open meeting of the Advisory Commission on Construction Safety and Health (ACCSH).

SUMMARY: OSHA is notifying the public that the ACCSH will meet May 4-5, 2000 at the Francis Perkins Building, U.S. Department of Labor, 200 Constitution Avenue, NW, Washington, DC. This meeting is open to the public.

DATES, TIMES, and ROOMS: The ACCSH will meet on Thursday, May 4 from 8:30 a.m. to 4 p.m. and on Friday, May 5 from 9 a.m. to noon in room N-3437 B, C, and D. The ACCSH work groups will meet May 2-3 and, if necessary, after noon on May 5.

FOR FURTHER INFORMATION CONTACT: Veneta Chatmon, Office of Public Affairs, Room N-3647, telephone (202) 693-1999 at the Occupational Safety and Health Administration, 200 Constitution Avenue, NW., Washington, DC 20210.

SUPPLEMENTARY INFORMATION: An official record of the meeting will be available for public inspection at the OSHA Docket Office, Room N-2625, telephone 202-693-2350. All ACCSH meetings and those of its work groups are open to the public. Individuals needing special accommodation should contact Veneta Chatmon no later than April 30, 2000 at the address listed under For Further Information Contact.

The agenda items for this meeting include:

• Remarks by the Assistant Secretary for Occupational Safety and Health, Charles N. Jeffress.

• ACCSH work group updates, including:

• Data Collection and Targeting.

• Musculoskeletal Disorders.

• Subpart N—Cranes.

• Fall Protection.

• Hexavalent Chromium.

• Process Safety Management.

• OSHA Form 170.

• Noise in Construction.

• Directorate of Construction Reports.

• Special Presentations, including:

• Carolina Star Program.

• OSHA's Rulemaking Process.

The following ACCSH work groups will meet in the Frances Perkins Building:

Safety and Health Program Management and Training: 8:30—10:30 a.m., Tuesday, May 2, room N-3437 C.

Hexavalent Chromium: 10 a.m. to noon, Tuesday, May 2, room N-3437 B.

OSHA Form 170: 1 to 5 p.m., Tuesday, May 2, room N-3437 B.

Process Safety Management: 1 to 3 p.m., May 2, room N-3437 C.

Musculoskeletal Disorders: 1-4 p.m., Wednesday, May 3, room N-3437 B.

Noise in Construction: 10 a.m. to noon, Wednesday, May 3, room N-3437 D.

Data Collection/Targeting: 1 to 4 p.m., Wednesday May 3, room N-3437 B.

Fall Protection: 1:15 to 5 p.m., Wednesday, May 3, room N-3437 C.

Work groups may also meet after the adjournment of the ACCSH meeting on Friday, May 5, 2000.

For up-to-date information on ACCSH activities and scheduling, please refer to the OSHA Web site at http://www.osha.gov, or call Jim Boom in OSHA's Directorate of Construction at (202) 693-1839.

Interested parties may submit written data, views, or comments, preferably with 20 copies, to Veneta Chatmon at the address listed above under “For Further Information Contact.” OSHA will provide submissions received prior to the meeting to ACCSH members, and will include each submission in the record of the meeting. Attendees may also request to make an oral presentation by notifying Veneta Chatmon before the meeting. The request must state the amount of time desired, the interest represented by the presenter (e.g., the name of the business, trade association, government agency), if any, and a brief outline of the presentation. The Chair of ACCSH may grant the request at his/her discretion and as time permits.

Authority: Charles N. Jeffress, Assistant Secretary of Labor for Occupational Safety and Health, directed the preparation of this notice under the authority granted by section 7 of the Occupational Safety and Health Act of 1970 (29 U.S.C. 656), section 107 of the Contract Work Hours and Safety Standards Act (Construction Safety Act) (40 U.S.C. 333), and Secretary of Labor's Order No. 6-96 (62 FR 181).

Signed at Washington, DC on April 13, 2000.
Charles N. Jeffress,
Assistant Secretary of Labor.

[FR Doc. 00-9645 Filed 4-17-00; 8:45 am]

BILLING CODE 4516-26-M